DEPARTMENT OF THE TREASURY

Submission for OMB Review; Comment Request

June 7, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 12, 2002, to be assured of consideration.

U.S. Customs Service (CUS)

OMB Number: 1515-0087.

Form Number: Customs Form 255.

Type of Review: Extension.

Title: Declaration of Unaccompanied Articles.

Description: This collection is completed by each arriving passenger for each parcel or container which is being sent from an insular possession at a later date. This declaration allows that traveler to claim their appropriate allowable exemption.

Respondents: Business or other for-profit, Individuals or households, Not-for-profit institutions, Federal Government.

Estimated Number of Respondents: 7,500.

Estimated Burden Hours Per Respondent: 5 minutes.

Frequency of Response: On occasion.

Estimated Total Reporting Burden: 1,250 hours.

OMB Number: 1515-0193.

Form Number: None.

Type of Review: Extension.

Title: Report of Loss, Detention, or Accident by Bonded Carrier, Cartman, Lighterman, Foreign Trade Zone Operator, or Centralized Examination Station Operator.

Description: This collection is required to ensure that any loss of detention of bonded merchandise, or any by the cartman, lighterman, qualified bonded carrier, foreign trade zone operator, bonded warehouse proprietor, container station operator or centralized examination station operator are properly reported to the port director.

Respondents: Business or other for-profit, Individuals or households, Not-for-profit institutions.

Estimated Number of Respondents/Recordkeepers: 325.

Estimated Burden Hours Per Respondent/Recordkeeper: 37 minutes.

Frequency of Response: On occasion.

Estimated Total Reporting/Recordkeeping Burden: 200 hours.

OMB Number: 1515-0208.

Form Number: None.

Type of Review: Extension.

Title: NAFTA Duty Deferral.

Description: The “North American Free Trade Agreement” (NAFTA) Duty Deferral Program prescribes the documentary and other requirements that must be followed when merchandise is withdrawn from a U.S. duty-deferral program for exportation to another NAFTA country.

Respondents: Business or other for-profit, Individuals or households, Not-for-profit institutions, Federal Government.

Estimated Number of Respondents: 50.

Estimated Burden Hours Per Respondent: 12 minutes.

Frequency of Response: On occasion.

Estimated Total Reporting Burden: 280 hours.

OMB Number: 1515-0220.

Form Number: None.

Type of Review: Extension.

Title: Lay Order Period—General Order Merchandise.

Description: This collection is required to ensure that the operator of an arriving carrier, or transfer agent shall notify a bonded warehouse owner of the presence of merchandise that has remained at the place of arrival or unlading without entry beyond the time period provided for by regulations.

Respondents: Business or other for-profit, Not-for-profit institutions.

Estimated Number of Respondents: 390.

Estimated Burden Hours Per Respondent: 15 minutes.

Frequency of Response: On occasion.

Estimated Total Reporting Burden: 12,675 hours.

Clearance Officer: Tracey Denning (202) 927-1429, U.S. Customs Service, Information Services Branch, Ronald Reagan Building, 1300 Pennsylvania Avenue, NW, Room 3.2.C, Washington, DC 20229.

OMB Reviewer: Alexander T. Hunt (202) 395-7860, Office of Management and Budget, Room 10202, New Executive Office Building, Washington, DC 20503.

Lois K. Holland,
Departmental Reports Management Officer.

[FR Doc. 02-14941 Filed 6-12-02; 8:45 am]

BILLING CODE 4820-02-P